DEPARTMENT OF ENERGY

Notice of Public Meeting

AGENCY: Office of Energy Efficiency and Renewable Energy, Department of Energy.

ACTION: Notice of public meeting.

SUMMARY: The U.S. Department of Energy (DOE) is hosting a workshop to develop new prizes, competitions, and related initiatives that advance water security in the United States and globally. The workshop will inform a DOE-led Grand Challenge that seeks breakthroughs on a set of critical water issues through a coordinated suite of prizes, competitions, early-stage research and development, and related programs.

DATES: The public meeting will be held on October 25, 2018 from 8 a.m. to 4 p.m.

ADDRESSES: The public meeting will be held at DOE's National Renewable Energy Laboratory, 15301 Denver West Parkway, Golden, CO 80401.

FOR FURTHER INFORMATION CONTACT: Questions may be directed to Andre de Fontaine, U.S. Department of Energy, Office of Energy Efficiency and Renewable Energy, 1000 Independence Avenue SW, Washington, DC 20585. Telephone (202) 586-6585. Email: andre.defontaine@ee.doe.gov.

SUPPLEMENTARY INFORMATION: Water is a critical resource for human health, economic growth, and agricultural productivity. The United States has benefitted from access to low-cost water supplies—however, new challenges are emerging that, if left unaddressed, could shift this paradigm.

In the U.S., a growing number of regions are competing for fresh water sources and water quality problems are impacting human health and the environment. Municipal water and wastewater treatment systems face billions of dollars in unmet infrastructure investment needs, which will likely increase as population grows, and water and wastewater treatment requirements become more stringent.

Lack of safe and secure water supplies is also a global problem. According to the World Health Organization, more than 2 billion people globally lack access to safe, readily available water at home.¹ Aside from the humanitarian implications, water security is also an issue of national security.

¹ World Health Organization, “2.1 billion people lack safe drinking water at home, more than twice as many lack safe sanitation,” July 2017. http://www.who.int/news-room/detail/12-07-2017-2-1-billion-people-lack-safe-drinking-water-at-home-more-than-twice-as-many-lack-safe-sanitation.

On March 13, 2018, U.S. Department of Energy (“DOE”) Secretary Perry led a roundtable discussion on the use of challenges and prize competitions to drive innovation on critical water issues. In conjunction with this, DOE's Office of Energy Efficiency and Renewable Energy (“EERE”) published in the Federal Register a request for information (RFI) seeking input on the possible use of challenges and prize competitions to address technical and other barriers that may prevent long-term access to low-cost water supplies. Through the RFI responses, a series of internal DOE meetings, and conversations with external experts, DOE identified the following set of key issues to address through this effort:

1. Cost-competitive desalination technologies

2. Transforming produced water from a waste to a resource

3. Reducing water impacts in the power sector

4. Lowering energy costs in wastewater treatment

5. Developing off-grid, modular energy-water systems

6. Cross-cutting, or open issues

The RFI can be found at https://www.federalregister.gov/documents/2018/03/19/2018-05472/notice-of-request-for-information-rfi-on-critical-water-issues-prize-competition. DOE is now announcing a public meeting to gather additional, focused input on the use of prize competitions to make progress on these water issues.

The purpose of this public meeting is to solicit feedback from industry, academia, research laboratories, government agencies and other stakeholders on potential prize competitions that could be developed to address these key water issues. Participants will spend much of the day in breakout sessions aligned with the six topic areas identified above. Participants will be asked to brainstorm specific prize ideas aligned with the breakout topics and report the results of their discussion out to the group. DOE's goal is to produce a number of different prize ideas through the workshop that it and its partners may pursue in the future.

Public Participation

Attendance at Public Meeting

The time, date and location of the public meeting are listed in the DATES and ADDRESSES sections at the beginning of this document. Please register at www.nrel.gov/waterchallenge to attend the meeting. DOE plans to cap attendance to about 60 participants and will handle registration on a first-come, first-served basis.

Please note, foreign nationals (including Canadian citizens, permanent resident aliens and resident aliens) visiting NREL are subject to advance security screening procedures which require advance notice prior to attendance at the public meeting. If you are a foreign national, contact Sarah Barba at sarah.barba@nrel.gov or (303) 275-3023 for the necessary foreign national paperwork. All foreign national data cards must be received by close of business Friday, September 21, 2018. Foreign national data cards received after this date will be reviewed on a case by case basis.

U.S. citizens must show government issued photo I.D. (such as a driver's license, passport, or military ID) to NREL Security upon arrival.

Conduct of Public Meeting

DOE will designate a DOE official to preside over the public meeting. DOE reserves the right to schedule the order of presentations, determine the composition of the breakout sessions and to establish the procedures governing the conduct of the public meeting.

The public meeting will be conducted in an informal style, with a mix of plenary presentations and breakout sessions. Following one or two opening plenary addresses in the morning, DOE will split the audience into breakout groups aligned with the six critical water issue topic areas described above, with one or two breakout groups per topic area. Participants in each breakout group will discuss potential prize ideas aligned with the topic area, and report the results of their discussions out to the full group of attendees. DOE will use the results of these discussions to inform the development of potential prize competitions and challenges.

Signed in Washington, DC, on September 10, 2018.
Alex Fitzsimmons,
Chief of Staff, Office of Energy Efficiency & Renewable Energy.

[FR Doc. 2018-20032 Filed 9-13-18; 8:45 am]

BILLING CODE 6450-01-P